DEPARTMENT OF COMMERCE

INTERNATIONAL TRADE ADMINISTRATION

[A-427-816, A-533-817, A-560-805, A-475-826, A-588-847, A-580-836]

Notice of Amendment of Final Determinations of Sales at Less Than Fair Value and Antidumping Duty Orders: Certain Cut-To-Length Carbon-Quality Steel Plate Products From France, India, Indonesia, Italy, Japan and the Republic of Korea

AGENCY: Import Administration, International Trade Administration, Department of Commerce.

EFFECTIVE DATE: February 10, 2000.

FOR FURTHER INFORMATION CONTACT: Howard Smith or Brian C. Smith, Import Administration, International Trade Administration, U.S. Department of Commerce, 14th Street and Constitution Avenue, NW, Washington, DC 20230; telephone: (202) 482-1766 or (202) 482-5193, respectively.

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to the regulations at 19 CFR Part 351 (1999).

Amendment to the Final Determination

On December 13, 1999, the Department made its final determinations that certain cut-to-length carbon-quality steel plate products from France, India, Indonesia, Italy, Japan and the Republic of Korea are being, or are likely to be, sold in the United States at less than fair value. See Notice of Final Determination of Sales at Less Than Fair Value: Certain Cut-To-Length Carbon-Quality Steel Plate Products from France, 64 FR 73143, (India) 64 FR 73126, (Indonesia) 64 FR 73164, (Italy) 64 FR 73234, (Japan) 64 FR 73215, and the (Republic of Korea) 64 FR 73196 (December 29, 1999) (“Final Determinations”). In December 1999, the Department disclosed its calculations for the final determinations to all interested parties. In December 1999, and January 2000, the Department received timely allegations of ministerial errors in its margin calculations for certain respondents. Specifically, the Department received ministerial error allegations in the final determinations for France, Indonesia, Italy, and the Republic of Korea. After analyzing the ministerial error allegations in accordance with 19 CFR 351.224, we have determined the following:

France

In calculating the final margin for the respondent Usinor S.A., the Department improperly calculated the constructed export price (“CEP”) offset where U.S. sales were compared to constructed value. Specifically, the Department failed to include home market inventory carrying costs in the indirect selling expenses used to calculate the CEP offset. For a detailed discussion of the ministerial error allegations for France and the Department's analysis thereof, see the Memorandum, Ministerial Error Allegations Regarding the Final Determination, to Holly A. Kuga, Acting Deputy Assistant Secretary, AD/CVD Enforcement Group II, from the France Team, dated January 28, 2000. In accordance with 19 CFR 351.224(e), we are amending the final determination of the antidumping duty investigation of certain cut-to-length carbon-quality steel plate products from France. Correcting the ministerial error changes the final weighted-average dumping margin for Usinor S.A. and the “All Others” rate from 10.43 percent to 10.41 percent.

Indonesia

In calculating the final margin for the respondent PT Gunawan Dianjaya Steel (“Gunawan”)/ PT Jaya Pari Steel Corporation (“Jaya Pari”), the Department (1) incorrectly calculated the indexed, weighted-average costs; (2) failed to incorporate certain adjustments to Gunawan's and Jaya Pari's U.S. sales in the margin calculation; (3) failed to include all of Jaya Pari's U.S. sales in the margin calculation; (4) incorrectly calculated December 1998 current costs by using the incorrect wholesale price indices for three months; and (5) incorrectly revised the factory overhead expense for certain control number models. For a detailed discussion of the ministerial error allegations for Indonesia and the Department's analysis thereof, see the Memorandum, Ministerial Error Allegations Regarding the Final Determination, to Louis Apple, Office Director, from the Indonesia Team, dated January 7, 2000. In accordance with 19 CFR 351.224(e), we are amending the final determination of the antidumping duty investigation of certain cut-to-length carbon-quality steel plate products from Indonesia. Correcting the ministerial errors changes the final weighted-average dumping margin for Gunawan/Jaya Pari and the “All Others” rate from 42.36 percent to 50.80 percent.

Italy

In calculating the final margin for the respondent Palini and Bertoli S.p.A., the Department incorrectly revised home market credit expense. For a detailed discussion of the ministerial error allegation for Italy and the Department's analysis thereof, see the Memorandum, Ministerial Error Allegations Regarding the Final Determination, to Holly A. Kuga, Acting Deputy Assistant Secretary, AD/CVD Enforcement Group II, from the Italy Team, dated January 20, 2000. In accordance with 19 CFR 351.224(e), we are amending the final determination of the antidumping duty investigation of certain cut-to-length carbon-quality steel plate products from Italy. Correcting the ministerial error changes the final weighted-average dumping margin for Palini and Bertoli S.p.A. and the “All Others” rate from 8.97 percent to 7.85 percent.

The Republic of Korea

The petitioners alleged that the Department made certain ministerial errors in calculating costs for Dongkuk Steel Mill, Ltd., in the final determination We do not agree that the items identified by the petitioners constitute clerical errors. Thus, we are not amending the final determination of the antidumping duty investigation of certain cut-to-length carbon-quality steel plate products from the Republic of Korea. For a detailed discussion of the ministerial error allegations for the Republic of Korea and the Department's analysis thereof, see the Memorandum, Ministerial Error Allegations Regarding the Final Determination, to Holly A. Kuga, Acting Deputy Assistant Secretary, AD/CVD Enforcement Group II, from the Korea Team, dated January 20, 2000.

Scope of Orders

The products covered by these antidumping duty orders are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of these orders are of rectangular, square, circular or other shape and of rectangular or non-rectangular cross-section where such non-rectangular cross-section is achieved subsequent to the rolling process (i.e., products which have been “worked after rolling”)—for example, products which have been beveled or rounded at the edges. Steel products that meet the noted physical characteristics that are painted, varnished or coated with plastic or other non-metallic substances are included within this scope. Also, specifically included in the scope of these orders are high strength, low alloy (“HSLA”) steels. HSLA steels are recognized as steels with micro-alloying levels of elements such as chromium, copper, niobium, titanium, vanadium, and molybdenum. Steel products to be included in this scope, regardless of Harmonized Tariff Schedule of the United States (“HTSUS”) definitions, are products in which: (1) Iron predominates, by weight, over each of the other contained elements, (2) the carbon content is two percent or less, by weight, and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of these orders unless otherwise specifically excluded. The following products are specifically excluded from these orders: (1) Products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel.

The merchandise subject to these orders is classified in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and Customs purposes, the written description of the merchandise covered by these orders is dispositive.

Antidumping Duty Orders

On February 2, 2000, in accordance with section 735(d) of the Act, the ITC notified the Department that a U.S. industry is materially injured by reason of imports of certain cut-to-length carbon-quality steel plate products from France, India, Indonesia, Italy, Japan, and the Republic of Korea, pursuant to section 735(b)(1)(A) of the Act. In addition, with respect to imports of subject merchandise from Japan, the ITC found that critical circumstances do not exist.

Therefore, in accordance with section 736(a)(1) of the Act, the Department will direct the United States Customs Service (“U.S. Customs”) to assess, upon further advice by the Department, antidumping duties equal to the amount by which the normal value of the merchandise exceeds the export price or constructed export price of the merchandise for all relevant entries of certain cut-to-length carbon-quality steel plate products from each of the countries named in the above-referenced antidumping duty investigations. These antidumping duties will be assessed on all unliquidated entries of imports of the subject merchandise that are entered, or withdrawn from warehouse, for consumption on or after July 29, 1999, the date of publication of the preliminary determinations in the Federal Register. Because the ITC did not find that critical circumstances exist with respect to imports of subject merchandise from Japan, the Department will direct U.S. Customs to refund all cash deposit amounts collected on imports of certain cut-to-length carbon-quality steel plate products from Japan entered, or withdrawn from warehouse, during the 90-day period prior to the publication of the preliminary antidumping duty determination for Japan (i.e., from April 30, 1999 through July 28, 1999). Moreover, because the Department found a de minimis final weighted-average margin for ILVA S.p.A., a respondent in the Italian investigation which received a margin in excess of de minimis in the preliminary determination, the Department has directed U.S. Customs to terminate the suspension of liquidation for shipments of certain cut-to-length carbon-quality steel plate products produced/exported by ILVA S.p.A. entered, or withdrawn from warehouse, for consumption on or after July 29, 1999, and to release any bond or other security, and refund any cash deposit obtained in connection with the antidumping duty investigation. Finally, because the Department found a de minimis final weighted-average margin for Pohang Iron & Steel Co., Ltd. (“POSCO”), a respondent in the Korean investigation which also received a de minimis margin in the preliminary determination, there are no cash deposit requirements for POSCO.

On or after the date of publication of this notice in the Federal Register, U.S. Customs officers must require, at the same time as importers would normally deposit estimated duties, cash deposits based on the rates listed below. Where applicable, the Department will reduce the cash deposit rates listed below by the export subsidy rate found in the companion final determination of the countervailing duty investigation.

Exporter/manufacturer | Margin percentage
France:
Usinor | 10.41
All Others | 10.41
India:
SAIL | 72.49
All Others | 72.49
Indonesia:
Gunawan/Jaya Pari | 50.80
PT Krakatau Steel | 52.42
All Others | 50.80
Italy:
Palini and Bertoli S.p.A | 7.85
All Others | 7.85
Japan:
Kawasaki Steel Corporation | 10.78
Kobe Steel, Ltd | 59.12
Nippon Steel Corporation | 59.12
NKK Corporation | 59.12
Sumitomo Metal Industries, Ltd | 59.12
All Others | 10.78
Republic of Korea:
Dongkuk Steel Mill Co., Ltd. | 2.98
All Others | 2.98

This notice constitutes the antidumping duty orders with respect to certain cut-to-length carbon-quality steel plate products from France, India, Indonesia, Italy, Japan, and the Republic of Korea, pursuant to section 736(a) of the Act. Interested parties may contact the Central Records Unit, Room B-099 of the Main Commerce Building, for copies of an updated list of antidumping duty orders currently in effect.

These orders are published in accordance with section 736(a) of the Act and 19 CFR 351.211.

Dated: February 3, 2000.
Holly A. Kuga,
Acting Assistant Secretary for Import Administration.

[FR Doc. 00-3119 Filed 2-9-00; 8:45 am]

BILLING CODE 3510-DS-P